DEPARTMENT OF COMMERCE

Economic Development Administration

Notice of Petitions by Firms for Determination of Eligibility To Apply for Trade Adjustment Assistance

AGENCY: Economic Development Administration, Department of Commerce.

ACTION: Notice and opportunity for public comment.

Pursuant to Section 251 of the Trade Act of 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification of Eligibility To Apply for Trade Adjustment Assistance 11/11/2010 Through 12/9/2010
Firm name | Address | Date accepted for investigation | Products
Fort McDowell Yavapai Materials | 17100 E. Shea Blvd., Ste 330, Fountain Hills, AZ 85268 | 11/19/2010 | The firm produces concrete batch plants producing ready-mix concrete. A small number of concrete blocks are made as a by-product. Sand & gravel mine producing construction aggregates and USGA (golf course) sand. Granite pit producing crushed granite landscaping rock.
PCS Edventures!.com, Inc. | 345 Bobwhite Ct #200, Boise, ID 83706 | 12/8/2010 | The firm creates and manufacturers educational and scientific materials for use in the instruction of science, math and other educational lessons. These products consist of robotic instruction systems, micro-controllers and software, curriculum.
Stellar Recognition, Inc. dba Sports Awards and Pacesetter Awards | 5544 W. Armstrong Avenue, Chicago, IL 60646 | 11/24/2010 | The firm designs, manufactures and assembles awards, recognition items and promotional products such as trophies, plaques, glass and acrylic awards and various related promotional products.
The Woods Company, Inc. | 985 Superior Avenue, Chambersburg, PA 17201 | 11/5/2010 | The firm uses reclaimed solid wood flooring and architectural products.
Thuro Metal Products, Inc. | 21-25 Grand Boulevard North, Brentwood, NY 11717 | 11/18/2010 | The Firm is a manufacturer of custom engineered precision component parts including threaded shafts and assemblies.

Any party having a substantial interest in these proceedings may request a public hearing on the matter. A written request for a hearing must be submitted to the Trade Adjustment Assistance for Firms Division, Room 7106, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: December 9, 2010.
Bryan Borlik,
Director, Trade Adjustment Assistance for Firms.

[FR Doc. 2010-31444 Filed 12-14-10; 8:45 am]

BILLING CODE 3510-24-P